DEPARTMENT OF THE INTERIOR

Fish and Wildlife Service

[FWS-R4-ES-2010-N214; 40120-1112-0000-F5]

Receipt of Applications for Endangered Species Permits

AGENCY: Fish and Wildlife Service, Interior.

ACTION: Notice.

SUMMARY: We, the U.S. Fish and Wildlife Service, invite the public to comment on the following applications to conduct certain activities with endangered species. With some exceptions, the Endangered Species Act (ESA) prohibits activities with listed species unless a Federal permit is issued that allows such activities. The ESA requires that we invite public comment before issuing these permits.

DATES: We must receive written data or comments on the applications at the address given below, by November 4, 2010.

ADDRESSES: Documents and other information submitted with the applications are available for review, subject to the requirements of the Privacy Act and Freedom of Information Act, by any party who submits a written request for a copy of such documents to the following office within 30 days of the date of publication of this notice: Fish and Wildlife Service, 1875 Century Boulevard, Suite 200, Atlanta, Georgia 30345 (Attn: Cameron Shaw, Permit Coordinator).

FOR FURTHER INFORMATION CONTACT: Cameron Shaw, telephone 904-731-3191; facsimile 904-731-3045.

SUPPLEMENTARY INFORMATION: The public is invited to comment on the following applications for permits to conduct certain activities with endangered and threatened species pursuant to section 10(a)(1)(A) of the Endangered Species Act of 1973, as amended (16 U.S.C. 1531 et seq.) and our regulations in the Code of Federal Regulations (CFR) at 50 CFR 17. This notice is provided under section 10(c) of the Act. If you wish to comment, you may submit comments by any one of the following methods. You may mail comments to the Fish and Wildlife Service's Regional Office (see ADDRESSES section) or via electronic mail (e-mail) to: permitsR4ES@fws.gov. Please include your name and return address in your e-mail message. If you do not receive a confirmation from the Fish and Wildlife Service that we have received your e-mail message, contact us directly at the telephone number listed above (see FOR FURTHER INFORMATION CONTACT section). Finally, you may hand deliver comments to the Fish and Wildlife Service office listed above (see ADDRESSES section).

Before including your address, telephone number, e-mail address, or other personal identifying information in your comments, you should be aware that your entire comment—including your personal identifying information—may be made publicly available at any time. While you can ask us in your comments to withhold your personal identifying information from public review, we cannot guarantee that we will be able to do so.

Applicant: Paul Johnson, Marion, Alabama, TE130300.

The applicant requests an amendment to authorize the capture, captive propagation, and collection of tissue samples for genetic analysis for royal Marstonia (Pyrgulopsis ogmorhaphe), Ouachita rock pocketbook (Arkansia wheeleri), and pygmy sculpin (Cottus paulus).

Applicant: The Clinic for the Rehabilitation of Wildlife, Sanibel, Florida, TE054963.

The applicant requests Dr. Amber McNamara, DVM, be authorized as a permittee to perform veterinary services for endangered and threatened species of sea turtles: Kemp's Ridley (Lepidochelys kempii), hawksbill (Eretmochelys imbricata), leatherback (Dermochelys coriacea), green (Chelonia mydas), loggerhead (Caretta caretta), and olive Ridley (Lepidochelys olivacea).

Applicant: Anna George, Chattanooga, Tennessee, TE22311A.

The applicant requests authorization to conduct presence/absence surveys and collect tissue samples from the following freshwater fishes throughout their respective ranges: Blue shiner (Cyprinella caerulea), spotfin chub (Erimonax monacha), blackside dace (Phoxinus cumberlandensis), laurel dace (Phoxinus saylori), amber darter (Percina antesella), goldline darter (Percina aurolineata), conasauga logperch (Percina jenkinsi), and snail darter (Percina tanasi).

Applicant: Nashville Zoo, Nashville, Tennessee, TE22570A.

The applicant requests authorization to conduct presence/absence surveys, population monitoring, captive propagation, and maintain a live educational exhibit at the Nashville Zoo for the Nashville crayfish (Orconectes shoupi).

Applicant: Archbold Expeditions, Venus, Florida, TE88035.

Applicant requests renewed authorization to take (wildlife) or destroy (plants): The Florida scrub jay (Aphelocoma coerulescens), Audubon's crested caracara (Polyborus plancus audubonii), eastern indigo snake (Drymarchon corais couperi), bluetail mole skink (Eumeces egregarius lividus), sand skink (Neoseps reynoldsi), Florida panther (Felis concolor coryi), wood stork (Mycteria americana), Florida perforate cladonia (Cladonia perforate), pigeon-wing (Clitoria fragrans), scrub mint (Dicerandra frutescens), scrub buckwheat (Eriogonum longifolium var., Gnaphifolium sp.), snakeroot (Eryngium cuneifolium), highland's scrub hypericum (Hypericum cumulicola), scrub blazing star (Liatris ohlingerae), Britton's beargrass (Nolina brittoniana), papery whitlow-wort (Paronychia chartacea), wireweed (Polygonella basiramia), sandlace (Polygonella myriophylla), scrub plum (Prunus geniculata), and Carter's mustard (Warea carteri) during land management investigations. This activity will take place on Archbold Biological Station properties in Highlands County, Florida.

Applicant: Tennessee Valley Authority, Knoxville, Tennessee, TE-117405.

Applicant is requesting renewed authority to take endangered species, including seven (7) listed mammal species, four (4) listed bird species, four (4) listed reptile species, two (2) listed insect species, one (1) listed arachnid species, four (4) listed crustacean species, twenty-four (24) listed fish species, sixty six (66) listed mussel species, and forty nine (49) listed plant species for the purpose of scientific studies and to ensure agency activities contribute to species recovery efforts. This activity will take place across species ranges in a multi-state area.

Applicant: Gulf South Research Corporation, Baton Rouge, Louisiana, TE-16637A.

Applicant requests authority to take red-cockaded woodpeckers (Picoides borealis) and sample Louisiana quillwort (Isoetes louisianensis) during presence/absence surveys on the Stennis Western Maneuver Area, Hancock County, Mississippi.

Applicant: U.S. Forest Service, Chattahoocee-Oconee National Forest, Monticello, Georgia, TE-27344.

The applicant requests renewal of authorization for trapping, banding, translocating and installing artificial nesting cavities for red-cockaded woodpeckers on the Chattahoocee-Oconee National Forests in Georgia.

Applicant: Larry Wood, McClellanville, South Carolina, TE-33469.

The applicant requests renewal of authorization for trapping, banding, translocating and installing artificial nesting cavities for red-cockaded woodpeckers throughout South Carolina, Georgia, Florida and Alabama.

Applicant: St. Johns Water Management District, Palatka, Florida, TE-84047.

The applicant requests renewal of authorization for trapping, banding, translocating and installing artificial nesting cavities for red-cockaded woodpeckers on Water Management District properties in Orange, Brevard, Indian River, Osceola, Alachua and Duval Counties, Florida.

Applicant: James Moyers, Panama City, Florida, TE-125589.

The applicant requests renewal of authorization for trapping, banding, translocating and installing artificial nesting cavities for red-cockaded woodpeckers in Gulf and Bay Counties, Florida.

Applicant: Monica Folk, Kissimmee, Florida, TE-21809A.

The applicant requests authorization to take the following species during presence/absence surveys and scientific research projects: Red-cockaded woodpecker, wood stork (Mycteria americana), and snail kite (Rostrhamus sociabilis plumbeus). This activity will be conducted throughout the species ranges in Florida.

Applicant: Peter Frederick, University of Florida, Gainesville, Florida, TE-51552-4.

Applicant requests renewal of authority to take wood storks, for the purpose of researching nesting activities in Lee, Dade, Broward, Monroe, Palm Beach, Martin, Pasco, Hillsborough, Polk and Brevard Counties, Florida.

Applicant: Georgia Department of Natural Resources, Social Circle, Georgia, TE-16654A.

Applicant requests authority to collect rock gnome lichen (Cetrdonia linearis) for the purpose of obtaining voucher specimens, to include a portion of an individual plant from previously undocumented locations from throughout the species range in Georgia.

Applicant: Florida Fish and Wildlife Conservation Commission, Tallahassee, Florida, TE-51553.

Applicant requests renewed authorization to take the Florida panther (Felis concolor coryi) for the purpose of species recovery activities. Such activities include immobilize, temporarily hold, transport, mark, attach tracking devices, provide medical assistance and euthanize. These activities may take place throughout Florida.

Applicant: National Park Service, Big Cypress National Preserve, Ochopee, Florida, TE-146761.

Applicant requests renewed authorization to take the Florida panther for the purpose of species recovery activities. Such activities include immobilize, temporarily hold, transport, mark, attach tracking devices, provide medical assistance and euthanize. These activities will take place within and adjacent to the Big Cypress National Preserve, Florida.

Applicant: Jacksonville Zoological Society, Jacksonville, Florida, TE-763744.

Applicant requests renewal of authorization to take by housing and providing care for Florida panther for the purpose of public education. This activity will take place in Duval County, Florida.

Applicant: Carola Hass, Virginia Tech, Blacksburg, Virginia, TE-49502.

Applicant requests authorization to take flatwoods salamander (Ambystoma bishop) for the purpose of conducting presence/absence surveys. This work will be conducted on Eglin Air Force Base, Florida.

Applicant: Joyce Klaus, Culloden, Georgia, TE-83992.

Applicant requests renewed authorization to take by collecting flatwoods salamander for the purpose of conducting presence/absence surveys. This work will be conducted in South Carolina, Georgia, Florida and Alabama.

Applicant: CH2M Hill, Atlanta, Georgia, TE-18225A.

The applicant requests authorization to take during presence/absence surveys amber darter (Percina antesella) and short-nose sturgeon (Acipenser brevirostrum) throughout Georgia.

Applicant: Dr. Reed Noss, University of Central Florida, TE-20020A.

The applicant requests authorization to take Florida grasshopper sparrows (Ammodramus savannarum floridanus) through capture and banding. This activity will take place on State and Federal lands in Okeechobee, Osceola, Highlands, and Polk Counties, Florida

.

Applicant: Michael LaVoie, Eastern Band of Cherokee Indians, Cherokee, North Carolina TE-20026A.

The applicant requests authorization to take Carolina northern flying squirrels (Glaucomys sabrinus coloratus) by capture and tagging. This activity will take place on tribal lands of the Eastern Band of the Cherokee, North Carolina.

Applicant: Michael LaVoie, Cherokee, North Carolina, TE-20026A.

The applicant requests authorization to take Carolina northern flying squirrels for the purpose of presence/absence surveys and to conduct scientific research through capture/marking studies. This activity will take place on tribal lands of the Eastern Band of the Cherokee Indians.

Dated: September 22, 2010.
Mark J. Musaus,
Acting Regional Director.

[FR Doc. 2010-24881 Filed 10-4-10; 8:45 am]

BILLING CODE 4310-55-P